DEPARTMENT OF ENERGY

Federal Energy Regulatory Commission

[Docket No. RP18-419-000]

Dominion Energy Cove Point LNG, LP; Notice of Technical Conference

Take notice that a technical conference will be held on Tuesday, April 17, 2018 at 10:00 a.m. (Eastern Standard Time), in a room to be designated at the offices of the Federal Energy Regulatory Commission, 888 First Street NE, Washington, DC 20426.

At the technical conference, the Commission staff and the parties to the proceeding should be prepared to discuss all issues in this proceeding as established in the March 5, 2018 Order.¹

¹ Dominion Energy Cove Point LNG, LP, 162 FERC 61,199 (2018).

Federal Energy Regulatory Commission conferences are accessible under section 508 of the Rehabilitation Act of 1973. For accessibility accommodations please send an email to accessibility@ferc.gov or call toll free (866) 208-3372 (voice) or (202) 502-8659 (TTY), or send a fax to (202) 208-2106 with the required accommodations.

All interested persons and staff are permitted to attend. For further information please contact Alex Schroeder at (202) 502-6291 or email Walter.Schroeder@ferc.gov.

Dated: March 15, 2018.
Nathaniel J. Davis, Sr.,
Deputy Secretary.

[FR Doc. 2018-05683 Filed 3-20-18; 8:45 am]

BILLING CODE 6717-01-P